ENVIRONMENTAL PROTECTION AGENCY

[EPA-HQ-OAR-2004-0489; FRL 12623-01-OAR]

Proposed Information Collection Request; Comment Request; Air Emissions Reporting Requirements (Renewal)

AGENCY: Environmental Protection Agency (EPA).

ACTION: Notice.

SUMMARY: The Environmental Protection Agency (EPA) is planning to submit an information collection request (ICR), “Air Emissions Reporting Requirements (Renewal)” (EPA ICR No. 2170.09, OMB Control No. 2060-0580) to the Office of Management and Budget (OMB) for review and approval in accordance with the Paperwork Reduction Act. Before doing so, EPA is soliciting public comments on specific aspects of the proposed information collection as described below. This is a proposed renewal of the ICR, which expires on October 31, 2025. This notice allows 60 days for public comments.

DATES: Comments must be submitted on or before August 4, 2025.

ADDRESSES: Submit your comments, referencing Docket ID No. EPA-HQ-OAR-2004-0489, online using www.regulations.gov (our preferred method), by email to houyoux.marc@epa.gov, or by mail to: EPA Docket Center, Environmental Protection Agency, Mail Code 28221T, 1200 Pennsylvania Ave. NW, Washington, DC 20460. The EPA's policy is that all comments received will be included in the public docket without change including any personal information provided, unless the comment includes profanity, threats, information claimed to be Confidential Business Information (CBI) or other information whose disclosure is restricted by statute.

FOR FURTHER INFORMATION CONTACT: Marc Houyoux, Air Quality Assessment Division, Office of Air Quality Planning and Standards, (C339-02), Environmental Protection Agency, 109 TW Alexander Drive, RTP, NC 27711; telephone number: (919) 541-3649; email address: Houyoux.marc@epa.gov.

SUPPLEMENTARY INFORMATION: This is a proposed renewal of the ICR, which expires on October 31, 2025. An agency may not conduct, or sponsor, and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR as appropriate. The final ICR package will then be submitted to OMB for review and approval. At that time, another Federal Register notice will be published to announce the submission of the ICR to OMB and the opportunity to submit additional comments to OMB.

Abstract: The EPA promulgated the Air Emissions Reporting Requirements (AERR) (40 CFR part 51, subpart A) to coordinate emissions inventory reporting requirements with existing requirements of the Clean Air Act (CAA) and 1990 Amendments. Under this reporting, 54 State and territorial air quality agencies, including the District of Columbia, as well as an estimated 9 local air quality agencies, must submit emissions data every 3 years for all point sources and some non-point, on-road mobile, and non-road mobile sources of volatile organic compounds, oxides of nitrogen, carbon monoxide, sulfur dioxide, particulate matter less than or equal to 10 micrometers in diameter, particulate matter less than or equal to 2.5 micrometers in diameter, ammonia, and lead. Based on submissions from the 2020 and 2023 National Emissions Inventory (NEI), the EPA also assumes that 5 Tribal air agencies voluntarily submit point sources for triennial inventories and 5 Tribal air agencies voluntarily submit nonpoint or other sources in triennial years. Other voluntary activities in triennial years include reporting hazardous air pollutant emissions for point sources, reporting wildfire and prescribed fire activity data, providing documentation for nonpoint sources that do not use EPA emissions calculation tools, and reporting season-day emissions data.

In addition, the air quality agencies must submit annual emission data for point sources with the potential to emit at greater than specified levels of those pollutants. Fewer agencies are required to report during these interim years because of higher emissions thresholds. However, the approach used in this notice includes the same number of agencies reporting point sources every year, but reduces the hours required to adjust for the lower burden in non-triennial years.

The data collected from the emission reporting is necessary to compile and make publicly available a national inventory of air pollutant emissions. The information collected supports both EPA's implementation of the CAA, and State/Local/Tribal air agencies in fulfilling their requirements under CAA sections 110(a), 172, 182, 187, and 189 to implement primary and secondary national ambient air quality standards (NAAQS). A comprehensive inventory updated at regular intervals is essential to allow the EPA to fulfill its mandate to monitor and plan for the attainment and maintenance of the NAAQS established for criteria pollutants in the CAA.

The number and frequency of data collection and submittal is expected to remain the same for 2025-2027.

The EPA is aware of costs that were not reflected in past ICR renewals. Those costs are related to (1) voluntary reporting activities by the respondents; (2) costs of data systems used by respondents to report under the AERR; and (3) costs to industry to comply with AERR-related State regulations that implement reporting required by the AERR. Such costs are estimated and included in this ICR renewal.

Form Numbers: None.

Respondents/affected entities: Entities potentially affected by this collection request are generally State, territorial, and local government air quality managements programs. Tribal governments are not affected unless they have sought and obtained “Treatment as a State” (TAS) status under the Tribal Authority Rule and, on that basis, are authorized to implement and enforce the AERR rule. For the most recent 2023 triennial inventory, no Tribes have TAS for emissions inventory reporting, and 2 Tribal agencies voluntarily reported to the NEI.

Additionally, State and local agencies collect data from owners/operators to be able to provide it to the EPA. Thus, owners/operators of subject facilities are also affected by this collection. This renewal application includes the burden to these owners/operators for the first time so that EPA can ensure that such costs are covered. The EPA seeks information from state and local air agencies to indicate the degree to which emissions data collection is due to the AERR rather than something that these agencies would impose even in the absence of the AERR.

Respondent's obligation to respond: This information is collected under 23 U.S.C. 101; 42 U.S.C. 7401-7671q, and the authority of the AERR. This information is mandatory and, as specified, cannot be treated as confidential by the EPA.

Estimated number of respondents: 68 (total including voluntarily reporting) State, local and Tribal agencies and 12,379 owners/operators reporting to State and local agencies.

Frequency of response: Annual.

Total estimated burden: 60,497 hours per year, including 14,516 for voluntary activities for State, local, Tribal air agencies and 144,993 hours per year for owners/operators. Burden is defined at 5 CFR 1320.03(b).

Total estimated cost: $21,776,607 per year for State, local, and Tribal air agencies including $1,449,776 for voluntary activities and $15,756,457 in annualized capital, operation, and maintenance costs. $16,567,945 per year for owners/operators.

Changes in estimates: The ICR currently approved by OMB does not include burden for owners/operators, the burden to maintain information technology systems used to collect and report emissions data to the EPA, or the burden of voluntary activities. Beyond those changes, the total hours per year for State, local, and Tribal air agencies for required activities has increased by 627 hours per year across all agencies, which reflects improved calculation approaches. Finally, these estimates reflect the latest hourly wage rates available from the Bureau of Labor Statistics.

Karen Wesson,
Director, Air Quality Assessment Division, Office of Air Quality Planning and Standards.

[FR Doc. 2025-10258 Filed 6-4-25; 8:45 am]

BILLING CODE 6560-50-P